ENVIRONMENTAL PROTECTION AGENCY

[FRL-6946-8]

Science Advisory Board; Notification of Public Advisory Committee Meeting

Pursuant to the Federal Advisory Committee Act, Public Law 92-463, notice is hereby given that two committees of the USEPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office is included below.

The Research Strategies Advisory Committee (RSAC) of the Science Advisory Board (SAB), will meet on Tuesday, March 6, 2001 and Wednesday, March 7, 2001 in the EPA Ariel Rios Building, Room 6013 North, 1200 Pennsylvania Avenue, NW, Washington, DC 20460. The meeting will begin at 8:30 am and end no later than 5 pm on both days.

The purpose of the meeting is to begin an advisory on second phase of RSAC's review of the Peer Review Program (see 64 FR 46189, August 24, 1999 for additional details), a consultation on the National Program Director process established by ORD to manage large cross-cutting programs and how the Agency obtains science from other sources, a consultation on multi-year research planning, a consultation on performance metrics for science programs, and to plan for the FY 2002 policy budget review and commentary and testimony to Congress likely to be held in May 2001.

As it begins its advisory on EPA's implementation of the peer review program the Committee will examine two to three case studies to better understand how the peer review guidance was followed, how the charge questions helped focus the review, and how the product was improved by the review. The consultation with the National Program Directors will examine how the NPD program works as the NPDs share their experiences in getting science from various sources within and outside the Agency to support the EPA's mission. The multi-year research planning consultation will look at one core and one problem-driven research plan as a basis to inform the committee of this activity, to elicit advice from the individual members about how the process could be improved and to begin to discuss how to measure the success of science programs over time. The performance metrics consultation will build on the points raised during the multi-year planning discussion and explore the implications of the Government Performance and Results Act (GPRA) requirements which requires that outcomes be described for all Federal programs, including science programs. How does one measure the success of environmental science efforts which take time for completion and which contribute to but do not directly result in clean air, water and soil. During the budget discussion the Committee will begin to identify specific themes and issues against which it will evaluate EPA's FY 2002 Science and Technology budget request.

Charge to the Committee—The current RSAC charge with respect to its review of the peer review process at EPA is: (a) Is EPA peer reviewing the right products? (b) Are the peer reviews conducted appropriately? (c) Do the peer reviews make a difference? (d) Does EPA peer review all the science it uses (e.g., data submitted from parties outside the Agency)? (e) Does the RSAC have additional comments/guidance for EPA?

For Further Information—Members of the public desiring additional information about the meeting should contact Dr. Jack Fowle, Designated Federal Officer (DFO), Research Strategies Advisory Committee (RSAC), USEPA Science Advisory Board (1400A), Room 6450, 1200 Pennsylvania Avenue, NW, Washington, DC 20460; telephone/voice mail at (202) 564-4547; fax at (202) 501-0582; or via e-mail at fowle.jack@epa.gov. For a copy of the draft meeting agenda, please contact Ms. Wanda R. Fields, Management Assistant at (202) 564-4539 or by FAX at (202) 501-0582 or via e-mail at fields.wanda@epa.gov.

Background materials are available for some of the above discussions. Where available, these can be obtained from Ms. Lisa Matthews, US EPA, Office of Research and Development (8101R), 1200 Pennsylvania Avenue, NW, Washington, DC 20460, (202) 564-6669, fax (202) 565-2431, e-mail matthews.lisa@epa.gov.

Providing Oral or Written Comments—Members of the public who wish to make a brief oral presentation to the Committee must contact Dr. Fowle in writing (by letter or by fax—see previously stated information) no later than 12 noon Eastern Time, Wednesday, February 28, 2001 in order to be included on the Agenda (see SAB policy on providing comments, below). The request should identify the name of the individual who will make the presentation, the organization (if any) they will represent, any requirements for audio visual equipment (e.g., overhead projector, 35mm projector, chalkboard, etc), and at least 35 copies of an outline of the issues to be addressed or the presentation itself.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total, unless otherwise stated. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to Dr. Fowle at the address/contact information noted above in the following formats: one hard copy with original signature, and one electronic copy via e-mail (acceptable file formats: WordPerfect, Word, or Rich Text files (in IBM-PC/Windows 95/98 format). Those providing written comments and who attend the meeting are also asked to bring 25 copies of their comments for public distribution.

General Information—Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Dr. Fowle at least five business days prior to the meeting so that appropriate arrangements can be made.

Dated: February 12, 2001.
Donald G. Barnes,
Staff Director, Science Advisory Board.

[FR Doc. 01-4271 Filed 2-20-01; 8:45 am]

BILLING CODE 6560-50-P